DEPARTMENT OF TRANSPORTATION

Federal Aviation Administration

14 CFR Part 39

[Docket No. FAA-2005-21968; Directorate Identifier 2005-NM-077-AD]

RIN 2120-AA64

Airworthiness Directives; Boeing Model 757-200, -200CB, and -300 Series Airplanes

AGENCY: Federal Aviation Administration (FAA), Department of Transportation (DOT).

ACTION: Notice of proposed rulemaking (NPRM).

SUMMARY: The FAA proposes to adopt a new airworthiness directive (AD) for certain Boeing Model 757-200, -200CB, and -300 series airplanes. This proposed AD would require repetitive detailed inspections for proper functioning of the girt bar leaf springs for the escape slides at passenger doors 1, 2, and 4, and corrective actions if necessary. This proposed AD is prompted by a report that the escape slides failed to deploy correctly during an operator's tests of the escape slides. We are proposing this AD to prevent escape slides from disengaging from the airplane during deployment or in use, which could result in injuries to passengers or flightcrew.

DATES: We must receive comments on this proposed AD by September 12, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, PO Box 3707, Seattle, Washington 98124-2207.

You can examine the contents of this AD docket on the Internet at http://dms.dot.gov, or in person at the Docket Management Facility, U.S. Department of Transportation, 400 Seventh Street SW., Room PL-401, on the plaza level of the Nassif Building, Washington, DC. This docket number is FAA-2005-21968; the directorate identifier for this docket is 2005-NM-077-AD.

FOR FURTHER INFORMATION CONTACT: David Crotty, Aerospace Engineer, Cabin Safety and Environmental Systems Branch, ANM-150S, FAA, Seattle Aircraft Certification Office, 1601 Lind Avenue, SW., Renton, Washington 98055-4056; telephone (425) 917-6422; fax (425) 917-6590.

SUPPLEMENTARY INFORMATION:

Comments Invited

We invite you to submit any relevant written data, views, or arguments regarding this proposed AD. Send your comments to an address listed under ADDRESSES. Include “Docket No. FAA-2005-21968; Directorate Identifier 2005-NM-077-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

We have received a report indicating that the escape slides failed to deploy correctly during an operator's tests on Boeing Model 757-200, -200CB, and -300 series airplanes. Further examination showed that the girt bar, which attaches the deployed escape slide to the airplane floor, did not stay attached to the floor fitting. When an escape slide is being deployed, sliders on the forward and aft ends of the girt bar engage with the floor fittings and are held in place by leaf springs. The airplane manufacturer and operators have found that it is possible for the leaf springs to be deformed and damaged in service, and that deformed or damaged leaf springs may not keep the girt bar sliders engaged with the floor fittings. This condition, if not corrected, could cause escape slides to disengage from the airplane during deployment or in use, which could result in injuries to passengers or flightcrew.

Relevant Service Information

We have reviewed Boeing Special Attention Service Bulletin 757-52-0085, dated March 24, 2005 (for Boeing Model 757-200 and -200CB series airplanes); and Boeing Special Attention Service Bulletin 757-52-0086, dated March 24, 2005 (for Boeing Model 757-300 series airplanes). The service bulletins describe procedures for doing repetitive detailed inspections for discrepancies of the leaf springs. Discrepancies include inadequate spring retention force and inadequate girt bar slider engagement dimensions. For airplanes on which an inspection shows an engagement dimension of less than 0.37 inch, the service bulletins describe procedures for corrective action. The corrective action is replacing the leaf spring or the girt bar assembly with new parts, and doing girt bar assembly adjustments and testing. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Difference Between the Proposed AD and the Service Bulletins.”

Difference Between the Proposed AD and the Service Bulletins

The service bulletins specify that operators may accomplish certain actions in accordance with the Boeing 757 Airplane Maintenance Manual (AMM), the Boeing 757 Component Maintenance Manual (CMM), or an “approved equivalent procedure.” However, for actions in Part 1—“Inspection” of the Accomplishment Instructions of the applicable service bulletin, this proposed AD would require operators to accomplish the actions in accordance with the applicable chapter of the AMM or CMM specified in the applicable service bulletin. An “approved equivalent procedure” may be used only if it is approved as an alternative method of compliance in accordance with paragraph (h) of this proposed AD.

Costs of Compliance

There are about 944 airplanes of the affected design in the worldwide fleet. This proposed AD would affect about 632 airplanes of U.S. registry. The proposed inspection would take about 2 work hours per airplane, at an average labor rate of $65 per work hour. Based on these figures, the estimated cost of the proposed AD for U.S. operators is $82,160, or $130 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-21968; Directorate Identifier 2005-NM-077-AD.

Comments Due Date

(a) The Federal Aviation Administration (FAA) must receive comments on this AD action by September 12, 2005.

Affected ADs

(b) None.

Applicability

(c) This AD applies to Boeing Model 757-200 and -200CB series airplanes, certificated in any category; as identified in Boeing Special Attention Service Bulletin 757-52-0085, dated March 24, 2005; and Boeing Model 757-300 series airplanes, certificated in any category; as identified in Boeing Special Attention Service Bulletin 757-52-0086, dated March 24, 2005.

Unsafe Condition

(d) This AD was prompted by a report that the escape slides failed to deploy correctly during an operator's tests of the escape slides. We are issuing this AD to prevent escape slides from disengaging from the airplane during deployment or in use, which could result in injuries to passengers or flightcrew.

Compliance

(e) You are responsible for having the actions required by this AD performed within the compliance times specified, unless the actions have already been done.

Detailed Inspection and Corrective Actions

(f) Within 24 months after the effective date of this AD: Do a detailed inspection for inadequate spring retention force and inadequate girt bar slider dimensions of the girt bar leaf springs for the escape slides at passenger doors 1, 2, and 4; and do any applicable corrective actions before further flight. Do all the actions in accordance with the Accomplishment Instructions of the applicable service bulletin in paragraph (f)(1) or (f)(2) of this AD, except as provided by paragraph (g) of this AD. Repeat the inspection thereafter at intervals not to exceed 24 months, or after each maintenance task where removal of and installation of the girt bar is necessary, whichever occurs earlier.

(1) For Boeing Model 757-200 and -200CB series airplanes: Boeing Special Attention Service Bulletin 757-52-0085, dated March 24, 2005.

(2) For Boeing Model 757-300 series airplanes: Boeing Special Attention Service Bulletin 757-52-0086, dated March 24, 2005.

Equivalent Procedures

(g) Where Part 1—“Inspection” of the applicable service bulletin in paragraph (f)(1) or (f)(2) of this AD specifies that actions may be accomplished in accordance with an “approved equivalent procedure”: The corrective actions must be accomplished in accordance with the chapter of the Boeing 757 Airplane Maintenance Manual (AMM) or Boeing 757 Component Maintenance Manual (CMM) specified in the applicable service bulletin.

Alternative Methods of Compliance (AMOCs)

(h) The Manager, Seattle Aircraft Certification Office (ACO), FAA, has the authority to approve AMOCs for this AD, if requested in accordance with the procedures found in 14 CFR 39.19.

Issued in Renton, Washington, on July 13, 2005.
Ali Bahrami,
Manager, Transport Airplane Directorate, Aircraft Certification Service.

[FR Doc. 05-14790 Filed 7-26-05; 8:45 am]

BILLING CODE 4910-13-P